ENVIRONMENTAL PROTECTION AGENCY

[EPA-HQ-OAR-2022-0049; FRL-10199-01-OMS]

Information Collection Request Submitted to OMB for Review and Approval; Comment Request; NSPS for Pressure Sensitive Tape and Label Surface Coating Operations

AGENCY: Environmental Protection Agency (EPA).

ACTION: Notice.

SUMMARY: The Environmental Protection Agency (EPA) has submitted an information collection request (ICR), NSPS for Pressure Sensitive Tape and Label Surface Coating Operations to the Office of Management and Budget (OMB) for review and approval in accordance with the Paperwork Reduction Act. This is a proposed extension of the ICR, which is currently approved through November 30, 2022. Public comments were previously requested, via the Federal Register, on April 8, 2022, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 11, 2022.

ADDRESSES: Submit your comments, referencing Docket ID Number EPA-HQ-OAR-2022-0049, online using https://www.regulations.gov/ (our preferred method), or by email to docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Pressure Sensitive Tape and Label Surface Coating Operations (40 CFR part 60 subpart RR) were proposed on December 30, 1980, and promulgated on October 18, 1983, and amended on October 17, 2000. These regulations apply to existing facilities and new facilities with coating lines used in the manufacture of pressure sensitive tape and label materials. Existing facilities and new facilities are both subject to these regulations, except those facilities that input 45 mega grams (Mgs) of volatile organic compounds (VOC) or less per 12-month period. New facilities include those that commenced construction, modification or reconstruction after the date of proposal. This information is being collected to assure compliance with 40 CFR part 60, subpart RR.

Form Numbers: None.

Respondents/affected entities: Pressure sensitive tape and label surface coating operations.

Respondent's obligation to respond: Mandatory (40 CFR part 60, subpart RR).

Estimated number of respondents: 48 (total).

Frequency of response: Semiannual.

Total estimated burden: 4,530 hours (per year). Burden is defined at 5 CFR 1320.3(b).

Total estimated cost: $636,000 (per year), which includes $93,400 in annualized capital/srartup and/or operation & maintenance costs.

Changes in the Estimates: There is an increase in burden from the most-recently approved ICR. This increase is not due to any program changes. The change in burden and cost estimates is due to an increase in the number of sources, based on an assumption of continued industry growth.

Courtney Kerwin,
Director, Regulatory Support Division.

[FR Doc. 2022-19534 Filed 9-8-22; 8:45 am]

BILLING CODE 6560-50-P